OFFICE OF PERSONNEL MANAGEMENT

Privacy Act of 1974: New System of Records

AGENCY: U.S. Office of Personnel Management (OPM).

ACTION: Notice of a new system of records.

SUMMARY: The Office of Personnel Management is proposing to add a new system of records to its inventory of record systems subject to the Privacy Act of 1974 (5 U.S.C. 552a), as amended. This action is necessary to meet the requirements of the Privacy Act to publish in the Federal Register notice of the existence and character of records maintained by the agency (5 U.S.C. 552a(e)(4)). The Integrity Assurance Officer Control Files (Internal 20) system of records has been operational since February 2005 without incident. Previously, OPM has relied on preexisting Privacy Act system of records notices for the collection and maintenance of these records. In an effort to increase transparency, OPM published a separate notice for this system (Federal Register/Volume 79, No. 71/April 14, 2014/page 20931), and no comments were received. At this time we are publishing the complete text of this system of records.

DATES: This addition will be effective without further notice thirty (30) calendar days from the date of this publication, unless we receive comments that result in a contrary determination.

ADDRESSES: Send written comments to the Program Manager for the Freedom of Information and Privacy Act office, Federal Investigative Services, U.S. Office of Personnel Management, 1137 Branchton Road, PO Box 618, Boyers, Pennsylvania 16018.

FOR FURTHER INFORMATION CONTACT: Program Manager, Freedom of Information and Privacy Act office, FISSORNComments@opm.gov.

SUPPLEMENTARY INFORMATION: In accordance with the Privacy Act of 1974, 5 U.S.C. 552a, the Office of Personnel Management Federal Investigative Services (OPM-FIS) proposes to establish a new system of records titled Integrity Assurance Officer Control Files (Internal 20). This system of records allows OPM-FIS to collect, analyze, coordinate, and report investigations into allegations of misconduct or negligence by OPM Federal and contractor staff. The information in this system documents investigations into allegations or concerns of the following possible misconduct: (1) Fraud against the Government; (2) Theft of Government property; (3) Misuse of Government property and IT systems; and (4) Improper personal conduct.

This information is reported to other OPM components or Federal agencies for criminal, administrative, or any other actions deemed appropriate.

U.S. Office of Personnel Management.
Katherine Archuleta,
Director.

Office of Personnel Management

OPM/INTERNAL-20

System Name:

Internal—Integrity Assurance Officer Control Files

System Location:

Records may be maintained in the following locations:

a. United States Office of Personnel Management (OPM), Federal Investigative Services (FIS), 1900 E Street NW., Washington, DC 20415;

b. OPM-FIS, Federal Investigations Processing Center, 1137 Branchton Rd, PO Box 618, Boyers, PA 16018-0618;

c. OPM-FIS, Personnel Investigations Center, 601 10th Street, Ft. Meade, MD 20755.

Security Classification:

None.

Categories of individuals covered by the system:

Current and former individuals who have applied to or who are or were employed by FIS or who work(ed) on an OPM-FIS Contract and were referred to FIS's Integrity Assurance office due to allegations or concerns of the following possible misconduct: (1) Fraud against the Government; (2) Theft of Government property; (3) Misuse of Government property and IT systems; and (4) Improper personal conduct.

Categories of records in the system:

Applicable records may contain the following information about the covered individual: name, date of birth, Social Security Number, home address, telephone numbers, email addresses, employment history, education history, criminal history, civil court actions, records related to drug and/or alcohol use, interviews with and information obtained from sources and subjects of the integrity investigation, records documenting the individual's work or performance, records documenting the handling of personally identifiable information, time and attendance records, government credit card records, travel records, government issued cellular phone records, personnel and/or training records, public record information to include law enforcement, financial, divorce, bankruptcy, name change and other court information or reports and copies of information appearing in the media; copies of correspondence to and from the individual concerning the items above and copies of inter- and intra-agency correspondence concerning the items above and other information developed and relevant to the investigation.

Authority for maintenance of the system:

5 U.S.C. 301; the Federal Records Act, 44 U.S.C. 3101.

Purpose(s):

OPM-FIS uses these records to document the outcome of investigations into allegations of misconduct or negligence by OPM Federal and contractor staff or applicants and/or report the results of these investigations to other OPM components or Federal agencies for criminal, administrative, or any other action deemed appropriate.

Routine uses of records maintained in the system, including categories of users and the purposes of such uses:

In addition to those disclosures generally permitted under 5 U.S.C. 552a(b) of the Privacy Act, all or a portion of the records or information contained in this system may be disclosed to authorized entities, as is determined to be relevant and necessary, outside OPM as a routine use pursuant to 5 U.S.C. 552a(b)(3) as follows:

1. For Law Enforcement Purposes—To disclose pertinent information to the appropriate Federal, State, or local agency responsible for investigating, prosecuting, enforcing, or implementing a statute, rule, regulation, or order, where OPM becomes aware of an indication of a violation or potential violation of civil or criminal law or regulation.

2. For Litigation—To disclose information to the Department of Justice, or in a proceeding before a court, adjudicative body, or other administrative body before which OPM is authorized to appear, when:

(a) OPM, or any component thereof; or

(b) Any employee of OPM in his or her official capacity; or

(c) Any employee of OPM in his or her individual capacity where the Department of Justice or OPM has agreed to represent the employee; or

(d) The United States, when OPM determines that litigation is likely to affect OPM or any of its components; is a party to litigation or has an interest in such litigation, and OPM determines that the records are relevant and necessary to the litigation provided, however, that the disclosure is compatible with the purpose for which the records were collected.

3. To another Federal agency, to a court, or a party in litigation before a court or in an administrative proceeding being conducted by OPM or another Federal agency, when the Government is a party to the judicial or administrative proceeding. In those cases where the Government is not a party to the proceeding, records may be disclosed if a subpoena has been signed by a judge.

4. To an agency, office, or other establishment in the executive, legislative, or judicial branches of the Federal Government in response to its request, in connection with the hiring or retention of an employee or contractor, the issuance of a security clearance, the conducting of a security or suitability investigation of an individual, the classifying of jobs, the letting of a contract, or the issuance of a license, grant, or other benefit by the requesting agency, to the extent that the information is relevant and necessary to the requesting agency's decision on the matter.

5. To any source from which information is requested in the course of an investigation, to the extent necessary to identify the individual, inform the source of the nature and purpose of the investigation, and to identify the type of information requested.

6. To provide information to a congressional office from the record of an individual in response to an inquiry from the congressional office made at the request of that individual. However, the file, or parts thereof, will only be released to a congressional office if OPM receives a notarized authorization or signed statement under 28 U.S.C. 1746 from the subject of the investigation or an unsworn declaration in accordance with 28 U.S.C. 1746, in the following format: I declare (or certify, verify, or state) under penalty of perjury that the foregoing is true and correct. Executed on (date). (Signature).

7. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

8. For the Equal Employment Opportunity Commission—To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

9. For the Federal Labor Relations Authority—To disclose information to the Federal Labor Relations Authority or its General Counsel when requested in connection with investigations of allegations of unfair labor practices or matters before the Federal Service Impasses Panel.

10. For National Archives and Records Administration—To disclose information to the National Archives and Records Administration for use in records management inspections.

11. For Non-Federal Personnel—To disclose information to contractors, grantees, or volunteers performing or working on a contract, service, grant, cooperative agreement, or job for the Federal Government who have a need to know the information contained within this system.

12. By OPM in the production of summary descriptive statistics and analytical studies in support of the function for which the records are collected and maintained, or for related studies. While published studies do not contain individual identifiers, in some instances the selection of elements of data included in the study may be structured in such a way as to make the data individually identifiable by inference.

13. To appropriate agencies, entities, and persons when (1) OPM suspects or has confirmed that the security or confidentiality of the information in a system of records has been compromised; (2) OPM has determined that as a result of the suspected or confirmed compromise there is a risk of harm to economic or property interests, identity theft or fraud, or harm to the security or integrity of this system or other systems or programs (whether maintained by OPM or another agency or entity) that rely on the compromised information; and (3) the disclosure made to such agencies, entities, and persons is reasonably necessary to assist in connection with the OPM's efforts to respond to the suspected or confirmed compromise and prevent, minimize, or remedy such harm.

14. To another Federal agency that has the authority to conduct background investigations when an individual is suspended or removed from an OPM FIS contract due to misconduct to the extent that the information is relevant and necessary to the Federal agency's decision to retain the individual under contract with their agency.

Disclosure to consumer reporting agencies:

None.

Policies and practices for storing, retrieving, accessing, retaining, and disposing of records in the system:

Storage:

Records are maintained in a paper format in file folders and electronic databases.

Retrievability:

Records are retrieved by the name and/or social security number of the individual about whom they are maintained.

Safeguards:

Paper file folders are stored in a secured office within a secure facility. Access to the file folders and electronic records in the databases is restricted to authorized employees with a need-to-know.

Retention and disposal:

a: Records are maintained for 4 years, plus the current year, from the date of the most recent investigative activity or associated action, unless the case is appealed, at which time the records are maintained for 7 years, plus the current year, from the date of the associated action.

b: Hard copy records are destroyed by shredding and recycling and computerized records are destroyed by electronic erasure.

System manager and address:

Associate Director, Federal Investigative Services, U. S. Office of Personnel Management, P.O. Box 618, 1137 Branchton Road, Boyers, PA 16018.

Notification and record access procedures:

Specific materials in this system have been exempted from Privacy Act provisions at 5 U.S.C. 552(c)(3), (d), and (e)(1), regarding providing an accounting of disclosures to the data subject, access to and amendment of records, and maintaining in its records only such information that is relevant and necessary. The section of this notice titled Systems Exempted from Certain Provisions of the Act indicates the kinds of material exempted and the reasons for exempting them from access.

Individuals wishing to determine whether this system of records contains information about them or wishing to request access to their record may do so by writing to FOI/PA, Office of Personnel Management, Federal Investigative Services, PO Box 618, Boyers, PA 16018-0618. Individuals must furnish the following for their records to be located:

a. Full name.

b. Any former name.

c. SSN

d. Signature.

e. Any available information regarding the type of record involved.

f. Dates of employment and by whom the individual was employed.

g. The address to which the record information should be sent.

In addition, the requester must provide an original notarized statement or an unsworn declaration in accordance with 28 U.S.C. 1746, in the following format: I declare (or certify, verify, or state) under penalty of perjury that the foregoing is true and correct. Executed on (date). (Signature).

Attorneys or other persons acting on behalf of an individual must provide written authorization from that individual for the representative to act on their behalf. The written authorization must also include an original notarized statement or an unsworn declaration in accordance with 28 U.S.C. 1746, in the following format: `I declare (or certify, verify, or state) under penalty of perjury that the foregoing is true and correct. Executed on [date]. [Signature].'

Individuals requesting access must also comply with OPM's Privacy Act regulations regarding verification of identity and access to records (5 CFR 297).

Amendment procedures:

Individuals wishing to request amendment to their non-exempt records should write to FOI/PA, Office of Personnel Management, Federal Investigative Services, PO Box 618, Boyers, PA 16018-0618. Individuals must furnish the following for their records to be located:

a. Full name.

b. Any former name.

c. SSN

d. Signature.

e. Dates of employment and by whom the individual was employed.

f. Precise identification of the information to be amended.

g. The address to which the record information should be sent.

In addition, the requester must provide an original notarized statement or an unsworn declaration in accordance with 28 U.S.C. 1746, in the following format: I declare (or certify, verify, or state) under penalty of perjury that the foregoing is true and correct. Executed on (date). (Signature).

Attorneys or other persons acting on behalf of an individual must provide written authorization from that individual for the representative to act on their behalf. The written authorization must also include an original notarized statement or an unsworn declaration in accordance with 28 U.S.C. 1746, in the following format: `I declare (or certify, verify, or state) under penalty of perjury that the foregoing is true and correct. Executed on [date]. [Signature].'

Individuals requesting amendment must also comply with OPM's Privacy Act regulations regarding verification of identity and amendment of records (5 CFR part 297).

Record source categories:

Information in this system of records is obtained from:

a. The individual to whom the information applies.

b. OPM-FIS investigative files

c. Officials of OPM and OPM-FIS Contractors

d. Federal, State, and local agencies, and internal and external inquiries

e. The public

Exemptions claimed for the system:

All information in these records that meets the criteria stated in 5 U.S.C. 552a(k)(1), (2), (5), or (6) is exempt from the requirements of the Privacy Act that relate to providing an accounting of disclosures to the data subject, access to and amendment of records, and maintaining in its records only such information that is relevant and necessary. (5 U.S.C. 552(c)(3), (d), and (e)(1)).

1. Properly classified information subject to the provisions of section 552(b)(1), which states as follows: (A) Specifically authorized under criteria established by an Executive order to be kept secret in the interest of national defense or foreign policy and (B) are in fact properly classified pursuant to such Executive order.

2. Investigatory material compiled for law enforcement purposes, other than material within the scope of subsection (j)(2) of this section: Provided, however, that if any individual is denied any right, privilege, or benefit that he would otherwise be entitled by Federal law, or for which he would otherwise be eligible, as a result of the maintenance of such material, such material shall be provided to such individual, except to the extent that the disclosure of such material would reveal the identity of a source who furnished information to the Government under an express promise that the identity of the source would be held in confidence, or, prior to the effective date of this section, under an implied promise that the identity of the source would be held in confidence.

5. Investigatory material compiled solely for the purpose of determining suitability, eligibility or qualifications for Federal civilian employment and Federal contact or access to classified information. Materials may be exempted to the extent that release of the material to the individual whom the information is about would reveal the identity of a source who furnished information to the Government under an express promise that the identity of the source would be held in confidence or, prior to September 27, 1975, furnished information to the Government under an implied promise that the identity of the source would be held in confidence.

6. Testing and examination materials, compiled during the course of a personnel investigation, that are used solely to determine individual qualifications for appointment or promotion in the Federal service, when disclosure of the material would compromise the objectivity or fairness of the testing or examination process.

[FR Doc. 2015-00613 Filed 1-15-15; 8:45 am]

BILLING CODE 6325-53-P